DEPARTMENT OF TRANSPORTATION

Federal Railroad Administration

Agency Request for Emergency Processing of Collections of Information Associated With Today's Publication of Notice of Funding Availability and Solicitation of Applications

AGENCY: Federal Railroad Administration (FRA), United States Department of Transportation (DOT).

ACTION: Notice.

SUMMARY: The Federal Railroad Administration (FRA) hereby gives notice that it has submitted the following information collection request (ICR) to the Office of Management and Budget (OMB) for Emergency Processing under the Paperwork Reduction Act of 1995 (Pub. L. 104-13, 44 U.S.C. 3501 et seq.). FRA requests that OMB authorize the collection of information identified below on or before November 6, 2013, for 180 days after the date of approval by OMB. A copy of this ICR, with applicable supporting documentation, may be obtained by calling FRA's Clearance Officer, Mr. Robert Brogan (tel. (202) 493-6292). These numbers are not toll-free. A copy of this ICR may also be obtained electronically by contacting Mr. Brogan at robert.brogan@dot.gov. Comments and questions about the ICR identified below should be directed to the Office of Information and Regulatory Affairs (OIRA), Attn: FRA OMB Desk Officer, 725 17th St. NW., Washington, DC 20503. Comments and questions about the ICR identified below may also be transmitted electronically to OIRA at oira_submissions@omb.eop.gov.

DATES: Comments should be submitted as soon as possible upon publication of this notice in the Federal Register.

Title: Notice of Funding Availability and Solicitation of Applications for Grants under the Railroad Rehabilitation and Repair Grant Program.

OMB Control Number: 2130—New.

Frequency: One-time.

Affected Public: 49 States.

Form(s): SF-424, SF-424C, SF-424D, SF LLL.

Other Instruments: Collection of Information Associated with the NOFA Published in Today's Federal Register.

Estimated Total Annual Number of Responses: 10.0 Grant Applications (Electronic).

Estimated Total Annual Burden Hours: 4,790 hours.

SUPPLEMENTARY INFORMATION: There is approximately $1,870,000 available in the Railroad Rehabilitation and Repair Grant Program, which was originally supported with up to $20,000,000 of Federal funds provided to FRA as part of the Consolidated Security, Disaster Assistance, and Continuing Appropriations Act, 2009 (Pub. L. 110-329, September 30, 2008) (the Act). On November 6, 2008, FRA issued a Notice of Funding Availability (NOFA) soliciting applications for grants to fund eligible projects. FRA received applications and evaluated them according to criteria described in the notice. Based on the applications submitted and the subsequent evaluations, FRA selected projects totaling approximately $15,000,000 under this Program. Then on October 7, 2009, FRA issued another NOFA for the remaining $5,000,000. FRA received applications and evaluated them according to criteria described in the notice and subsequently selected 10 additional projects to receive funding. Due to a variety of factors, such as projects completed under their awarded amount, FRA has approximately $1,870,000 in funds remaining for this program.

Funds provided under this Program will assist Class II and Class III railroads to repair and rehabilitate infrastructure damaged by hurricanes, floods, and other natural disasters in areas for which the President declared a major disaster after January 1, 2008, under Title IV of the Robert T. Stafford Disaster Relief and Emergency Assistance Act of 1974. Applicant eligibility is limited to State departments of transportation.

The funding provided under these grants will be made available to grantees on a reimbursement basis. FRA anticipates awarding grants to multiple eligible participants. FRA may choose to award a grant or grants within the available funds in any amount. The grantees must exhaust all other Federal and State resources prior to seeking assistance under this Program. FRA will begin accepting grant applications on November 6, 2013. Applications may be submitted until 5:00 p.m. EST, December 9, 2013.

Issued in Washington, DC, on October 29, 2013.
Corey Hill,
Director, Office of Passenger and Freight Programs.

[FR Doc. 2013-26082 Filed 10-30-13; 8:45 am]

BILLING CODE 4910-06-P